DEPARTMENT OF COMMERCE

Manufacturing Extension Partnership National Advisory Board; Notice of Renewal

In accordance with the provisions of the Federal Advisory Committee Act, 5 U.S.C. App. 2, and the General Services Administration (GSA) rule on Federal Advisory Committee Management, 41 CFR Part 101-6, and after consultation with GSA, the Secretary of Commerce has determined that the renewal of the Manufacturing Extension Partnership National Advisory Board is in the public interest in connection with the performance of the duties imposed on the Department by law.

The Committee was first established in October 1996 to advise MEP regarding their programs, plans, and policies. In reviewing the Board, the Secretary has established it for an additional two years. During the next two years, the Board plans to address center service mix standardization, eBusiness, moving toward high performance centers, training and education of field staff, MEP University, national awareness of the MEP program, international services, and others.

The Board will consist of nine members to be appointed by the Director of the National Institute of Standards and Technology to assure a balanced membership that will represent the views and needs of customers, providers, and others involved in industrial extension throughout the United States.

The Board will function solely as an advisory body and in compliance with the provisions of the Federal Advisory Committee Act. Copies of the Board's revised charter will be filed with the appropriate committees of the Congress and with the Library of Congress.

Inquiries or comments may be directed to Linda Acierto, Senior Policy Advisor, Manufacturing Extension Partnership, National Institute of Standards and Technology, 100 Bureau Drive, Shop 4800, Gaithersburg, Maryland 20899-4800; telephone: 301-975-5020.

Karen H. Brown,
Deputy Director, NIST.

[FR Doc. 00-27900 Filed 10-30-00; 8:45 am]

BILLING CODE 3510-13-M